DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on March 1-2, 2010, in room 230 at the Department of Veterans Affairs, 810 Vermont Avenue, NW., Washington, DC. The meeting will be open to the public and it will start at 8 a.m. each day and will adjourn at 5 p.m. on March 1 and at 1:15 p.m. on March 2.

The purpose of the Committee is to provide advice and make recommendations to the Secretary of Veterans Affairs on proposed research studies, research plans and research strategies relating to the health consequences of military service in the Southwest Asia theater of operations during the Gulf War.

The Committee will review VA program activities related to Gulf War veterans' illnesses and updates on relevant scientific research published since the last Committee meeting. Additionally, there will be presentations and discussion of background information on the Gulf War and Gulf War Veterans' illnesses, chronic pain, potential health effects of exposure to sarin, chronic fatigue syndrome, a planned survey of the health status of Norwegian Gulf War Veterans, and updates on a number of ongoing research at the University of Texas Southwestern Medical Center and the VA War Related Illness and Injury Centers. There will also be discussion of Committee business and activities.

The meeting will include time reserved for public comments. A sign-up sheet for five-minute comments will be available at the meeting. Individuals who speak are invited to submit a 1-2 page summary of their comments at the time of the meeting for inclusion in the official meeting record. Members of the public may also submit written statements for the Committee's review to Dr. Roberta White, Chair, Department of Environmental Health, Boston University School of Public Health, 715 Albany St., T2E, Boston, MA 02118.

Any member of the public seeking additional information should contact Dr. White, Scientific Director, at (617) 638-4620 or Dr. William Goldberg, Designated Federal Officer, at (202) 461-1667.

Dated: February 22, 2010.
By Direction of the Secretary.
Vivian Drake,
Acting Committee Management Officer.

[FR Doc. 2010-3874 Filed 2-22-10; 8:45 am]

BILLING CODE 8320-01-P